DEPARTMENT OF HEALTH AND HUMAN SERVICES

Health Resources and Services Administration

Agency Information Collection Activities: Proposed Collection: Public Comment Request: Information Collection Request Title: Health Center Program Forms, OMB No. 0915-0285—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 7, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer, at (301) 443-1984.

SUPPLEMENTARY INFORMATION: When submitting comments or requesting information, please include the information request collection title for reference.

Information Collection Request Title: Health Center Program Forms; OMB No. 0915-0285—Revision.

Abstract: The Health Center Program, administered by HRSA, is authorized under section 330 of the Public Health Service (PHS) Act, most recently amended by section 50901(b) of the Bipartisan Budget Act of 2018, Public Law 115-123. Health centers are community-based and patient-directed organizations that deliver affordable, accessible, quality, and cost-effective primary health care services to patients regardless of their ability to pay. Nearly 1,400 health centers operate approximately 12,000 service delivery sites that provide primary health care to more than 27 million people in every U.S. state, the District of Columbia, Puerto Rico, the U.S. Virgin Islands, and the Pacific Basin. HRSA utilizes forms for new and existing health centers and other entities to apply for various grant and non-grant opportunities, renew grant and non-grant designations, report progress, and change their scopes of project.

Need and Proposed Use of the Information: Health Center Program-specific forms are necessary for Health Center Program award processes and oversight. These forms provide HRSA staff and objective review committee panels with information essential for application evaluation, funding recommendation and approval, designation, and monitoring. These forms also provide HRSA staff with information essential for evaluating compliance with Health Center Program legislative and regulatory requirements.

HRSA intends to make the following changes to its forms:

• Modify the following forms to streamline and clarify data currently being collected: 1A, 1C, 2, 3, 3A, 4, 5A, 5C, 6A, 8, 12, Health Center Controlled Networks (HCCN) Progress Report, Program Specific Forms Instructions, Project Narrative Update (Budget Period Progress Report [BPR]), Project Work Plan, and the Summary Page.

• Rename Substance Abuse Progress Report to Health Center Program Progress Report.

• Add the following forms necessary for funding applications and program monitoring: Capital Semi-Annual Progress Report, HCCN Participating Health Center List, Loan Guarantee Application, Patient Target Question Verification, Project Plan, and Substance Use Disorder and Mental Health Services (SUD-MH) Supplemental Funding Progress Report.

• Remove the following forms to further streamline information collected by HRSA and reduce burden: Alterations and Renovations Project Cover Page, Form 9: Need for Assistance, Form 10: Annual Emergency Preparedness Report, HCCN Work Plan, Outreach and Enrollment Supplemental, and Zika Progress Report.

Likely Respondents: Health Center Program award recipients (those funded under section 330 of the PHS Act) and Health Center Program look-alikes, state and national technical assistance organizations, and other organizations seeking funding.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Capital Semi-Annual Progress Report (New) | 996 | 1 | 996 | 1.00 | 996
Checklist for Adding a New Service | 450 | 1 | 450 | 1.00 | 450
Checklist for Adding a New Service Delivery Site | 1,480 | 1 | 1,480 | 1.50 | 2,220
Checklist for Adding a New Target Population | 100 | 1 | 100 | 0.50 | 50
Checklist for Deleting an Existing Service | 500 | 1 | 500 | 1.00 | 500
Checklist for Deleting an Existing Service Delivery Site | 500 | 1 | 500 | 1.00 | 500
Clinical Performance Measures | 1,058 | 1 | 1,058 | 3.50 | 3,703
Equipment List | 1,375 | 1 | 1,375 | 1.00 | 1,375
Expanded Services Project Narrative) | 1,058 | 1 | 1,058 | 1.00 | 1,058
Federal Object Class Categories | 735 | 1 | 735 | 0.25 | 184
Financial Performance Measures | 1,058 | 1 | 1,058 | 1.00 | 1,058
Form 1A: General Information Worksheet | 1,058 | 1 | 1,058 | 1.00 | 1,058
Form 1B: BPHC Funding Request Summary | 1,000 | 1 | 1,000 | 0.75 | 750
Form 1C: Documents on File | 1,058 | 1 | 1,058 | 0.50 | 529
Form 2: Staffing Profile | 1,058 | 1 | 1,058 | 1.00 | 1,058
Form 3: Income Analysis | 1,058 | 1 | 1,058 | 2.50 | 2,645
Form 3A: Look-Alike Budget Information | 50 | 1 | 50 | 1.00 | 50
Form 4: Community Characteristics | 1,058 | 1 | 1,058 | 1.00 | 1,058
Form 5A: Services Provided | 1,058 | 1 | 1,058 | 1.00 | 1,058
Form 5B: Service Sites | 1,508 | 1 | 1,508 | 0.75 | 1,131
Form 5C: Other Activities/Locations | 1,058 | 1 | 1,058 | 0.50 | 529
Form 6A: Current Board Member Characteristics | 1,058 | 1 | 1,058 | 0.50 | 529
Form 6B: Request for Waiver of Governance Requirements | 1,058 | 1 | 1,058 | 1.00 | 1,058
Form 8: Health Center Agreements | 1,058 | 1 | 1,058 | 0.75 | 794
Form 12: Organization Contacts | 1,058 | 1 | 1,058 | 0.50 | 529
Funding Sources | 735 | 1 | 735 | 0.50 | 368
HCCN Participating Health Center List (NEW) | 90 | 1 | 90 | 1.00 | 90
HCCN Progress Report | 90 | 1 | 90 | 25.00 | 2,250
Health Center Program Progress Report (previously Substance Abuse Progress Report) | 735 | 1 | 735 | 1.00 | 735
Loan Guarantee Application (NEW) | 20 | 1 | 20 | 1.00 | 20
Operational Plan Instructions | 500 | 1 | 500 | 3.00 | 1,500
Other Requirements for Sites | 600 | 1 | 600 | 0.50 | 300
Patient Target Question Verification (NEW) | 1,058 | 1 | 1,058 | 1.00 | 1,058
Program Specific Form Instructions | 1,500 | 1 | 1,500 | 1.00 | 1,500
Project Cover Page | 735 | 1 | 735 | 1.00 | 735
Project Narrative Update (BPR) | 883 | 1 | 883 | 4.00 | 3,532
Project Plan (NEW) | 1,300 | 1 | 1,300 | 1.00 | 1,300
Project Qualification Criteria | 735 | 1 | 735 | 1.00 | 735
Project Work Plan | 135 | 1 | 135 | 5.00 | 675
Proposal Cover Page | 735 | 1 | 735 | 1.00 | 735
SUD-MH Supplemental Funding Progress Report (NEW) | 1,375 | 1 | 1,375 | 1.00 | 1,375
Summary Page | 1,008 | 1 | 1,008 | 0.25 | 252
Supplemental Information | 500 | 1 | 500 | 1.00 | 500
Total Hours | 35,790 |  | 35,790 |  | 42,530

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2019-06766 Filed 4-5-19; 8:45 am]

BILLING CODE 4165-15-P